DEPARTMENT OF COMMERCE

National Oceanic and Atmospheric Administration

[I.D. 052703G]

Marine Mammals; File Nos. 782-1702, 782-1708, 782-1719, and 358-1585-02

AGENCY: National Marine Fisheries Service (NMFS), National Oceanic and Atmospheric Administration (NOAA), Commerce.

ACTION: Receipt of applications for permits and application for permit amendment.

SUMMARY: Notice is hereby given that the following applicants have applied in due form for a permit or permit amendment to take marine mammals for purposes of scientific research:

File Nos. 782-1702, -1708, and -1719 - National Marine Fisheries Service [NMFS], National Marine Mammal Laboratory [NMML], 7600 Sand Point Way, N.E. Seattle, WA 98115; and

File No. 358-1585-02 - Alaska Department of Fish and Game [ADF&G], Division of Wildlife Conservation, P.O. Box 25536, Juneau, AK 99802-5526.

DATES: Written or telefaxed comments on the new applications and amendment request must be received on or before July 7, 2003.

ADDRESSES: The applications and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Northwest Region, NMFS, 7600 Sand Point Way NE, BIN C15700, Bldg. 1, Seattle, WA 98115-0700; phone (206)526-6150; fax (206)526-6426;

Assistant Regional Administrator for Protected Resources, Alaska Region, NMFS, P.O. Box 21668, Juneau, AK 99802-1668; phone (907)586-7235; fax (907)586-7012;

Assistant Regional Administrator for Protected Resources, Southwest Region, NMFS, 501 West Ocean Blvd., Suite 4200, Long Beach, CA 90802-4213; phone (562)980-4020; fax (562)980-4027. Only Files 782-1708 and 782-1719 are available in the Southwest Region.

FOR FURTHER INFORMATION CONTACT: Ruth Johnson, Carrie Hubard, or Amy Sloan 301/713-2289, or email: Ruth.Johnson@noaa.gov.

SUPPLEMENTARY INFORMATION: The subject permits and amendment are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-227), and the Fur Seal Act of 1966, as amended (16 U.S.C. 1151 et seq.).

Applications for Permit

The NMML has submitted three applications to take marine mammals for scientific research.

(1) Application 782-1702 - NMML proposes to conduct aerial, ground and boat surveys of pinnipeds; capture and release of harbor seals (Phoca vitulina), California sea lions (Zalophus californianus), Steller sea lions (Eumetopias jubatus), and northern elephant seals (Mirounga angustirostris). Aerial, ground and boat surveys are proposed annually for stock assessment of these species. Capture and release of harbor seals will include tagging and branding for long term identification of individuals for information on reproductive success, survival, and longevity; blood sampling for disease screening; blubber biopsy for contaminant analysis; tissue sampling for genetics and for fatty acid analysis; some seals will be instrumented with VHF radio transmitters and/or Time-Depth Recorders (TDR) or satellite tags or sonic tags to document movements, activity and foraging patterns. Capture and release of California sea lions will include tagging and branding for long-term identification of individuals to determine predation rates on endangered salmonids; blood sampling for disease screening; blubber biopsy for contaminant analysis; and instrumentation with VHF radio transmitters, TDRs, or satellite tags to document movements and migration rates. Capture and release of Steller sea lions will include tagging and branding for long-term identification of individuals to determine predation rates on endangered salmonids; blood sampling for disease screening; tissue sampling for genetic analysis and instrumentation with VHF radio transmitters, TDRs, or satellite tags to document movements and migration rates. Tagging of northern elephant seals will document survival, movements, and site fidelity. In addition, scat will be collected from harbor seal, California sea lion, and Steller sea lion haulout areas for food habits analysis. Activities will occur in the States of Washington, Oregon and California.

(2) Application 782-1708 - NMML proposes to take Northern fur seals during scientific research. Seals will be captured, tagged, sampled and annual censuses will be conducted. All of this work is essential for: (1) monitoring the status and trends of the northern fur seal population, (2) evaluating the condition of animals from each cohort (health and strength of year-class), (3) monitoring the diet, and (4) documenting the movement patterns, foraging behavior, and essential foraging habitat of various age and sex classes of fur seals. This is a continuation of work authorized in Permit No. 782-1455. The information collected under this permit will be important for assessing the recovery of this depleted species and for evaluating management actions.

(3) Application 782-1719 - NMML is requesting authority to take marine mammals during-MMPA mandated stock assessment activities. NMML proposes to conduct Level B harassment during overflights, vessel-based observations, and approaches for photography, and by Level A harassment when doing biopsy sampling or tagging. This permit application is divided into three Projects: Project I is specifically for aerial surveys, including circling animals for making identifications, counts, or photography; Project II covers vessel surveys, including transects and approaches for photography and biopsies; Project III is in regard to tagging through remote deployment (via crossbow, gun, or pole) or capture, holding and release.

Amendment request

The ADF&G requests an amendment to permit 358-1585-02 to conduct the following activities on harbor seals: (1) permanently mark (hot brand) all female seals that receive VHF implants to enable identification from a distance, without disturbance, to determine whether a radio-tagged female has a pup; (2) place PIT tags in all live-captured seals to identify recaptured individuals while in the field to ensure that historic data are compared with subsequent samples for those individuals to assess changes in health or contaminant loads over time; (3) conduct transrectal ultrasound to diagnose pregnancy in seals, a technique that has been safely used in domestic and wild ungulates for several decades; (4) attach small sonic depth tags to seal pelage to facilitate real-time tracking of seal foraging behavior while simultaneously conducting acoustical surveys of prey availability; and (5) attach an Underwater Timed Picture Recorder (UTPR), equipped with a time depth recorder, to some seals for 24-hour periods. These data will be used in a study of optimal foraging behavior under predation risk and will allow acquisition of detailed dive data to predict the probability of encounter with predators for different age classes of seals; from the video data, prey selection, and pursuit and handling times can be readily calculated.

Concurrent with the publication of this notice in the Federal Register, NMFS is forwarding copies of these applications to the Marine Mammal Commission and its Committee of Scientific Advisors.

Dated: May 30, 2003.
Stephen L. Leathery,
Chief, Permits, Conservation and Education Division, Office of Protected Resources, National Marine Fisheries Service.

[FR Doc. 03-14041 Filed 6-3-03; 8:45 am]

BILLING CODE 3510-22-S